DEPARTMENT OF DEFENSE

Defense Logistics Agency

Management of Excess Mercury; Expressions of Interest; Alternative Locations for the Long Term Storage of Mercury

AGENCY: Defense National Stockpile Center (DNSC), Defense.

ACTION: Notice of request for expression of interest.

SUMMARY: The Defense National Stockpile Center (DNSC), part of the Defense Logistics Agency (DLA) within the Department of Defense (DoD), is preparing an environmental impact statement (EIS) to assess several alternatives for the long term management or use of mercury that has been declared excess to national defense needs. As part of the EIS assessment, DNSC is requesting Expressions of Interest from interested federal agencies for potential locations for the long term (greater than 40 years) consolidated storage of the excess mercury. For the purposes of this EIS, the term “long term management” shall include any potential action to sell, treat, store, or dispose of such material. The DNSC inventory of approximately 4,890 tons of excess mercury is currently stored in warehouses at four locations. Suggested sites that are submitted for DNSC consideration would be evaluated to determine their reasonableness for inclusion as an alternative in the EIS. More detailed information on the EIS can be found in the February 5, 2001 Federal Register (66 FR 8947). Information on the EIS may also be found at the Mercury Management EIS website at www.mercuryeis.com. Department of Energy (DOE) is a cooperating agency for the preparation of this EIS because some of DoD's excess mercury is currently stored at the DOE Y-12 National Security Complex in Oak Ridge, Tennessee.

DATES: Agencies wishing to make an Expression of Interest should do so in writing by April 30, 2001, to ensure their consideration.

ADDRESSES: Please submit Expressions of Interest to: Project Manager, Mercury Management EIS; DNSC-E; Defense Logistics Agency; Defense National Stockpile Center, 8725 John J. Kingman Road, Suite 4616, Fort Belvoir, VA 22060-6223.

SUPPLEMENTARY INFORMATION:

Background.

DNSC is a mandatory source of supply for raw materials for all Federal agencies as required by the Federal acquisition Regulation, Part 8.002—Use of Other Government Supply Sources. The mercury in DLA's Stockpile has been declared excess to national defense needs and DNSC must decide on long term management of the excess mercury.

The DNSC inventory of approximately 4,890 tons of excess mercury is currently stored in warehouses at four locations: Somerville, NJ; New Haven, IN; Oak Ridge, TN; and Warren, OH. Most of the excess inventory, about 2,882 tons (75,980 flasks) is stored at the Somerville Depot in Somerville, NJ. Approximately 770 tons (20,276 flasks) is stored at the U.S. Department of Energy (DOE) Y-12 National Security Complex in Oak Ridge, TN; and 621 tons (16,355 flasks) is stored at the Warren Depot in Warren, OH. The remainder, approximately 614 tons (16,151 flasks), is stored at the Casad Depot, located approximately 3 miles (4.8 kilometers) east of New Haven, IN. Mercury is a dense, naturally occurring, silver-colored metallic element that is liquid at room temperature. sometimes called ‘quicksilver’, liquid mercury has been used extensively in manufacturing because it readily conducts electricity, reacts to temperature changes, and alloys with other metals. Mercury is designated as a hazardous substance under Section 307(a) of the Clean Water Act, Section 112 of the Clean Air Act, and Section 3001 of the Resource Conservation and Recovery Act.

The DNSC mercury is between 99.5 and 99.9 percent pure. The material is currently stored in 3 liter, carbon steel flasks with each flask containing about 76 pounds (34.5 kilograms) of mercury. The flasks are stored in wooden box pallets equipped with drip pans, with 50 to 60 flasks to a pallet. Some of the flasks were manufactured and date from the 1940's and 1950's, although the mercury at the Y-12 National Security Complex was transferred into new flasks in 1975.

DNSC, as custodian of the excess inventory of mercury, must decide on an approach for long term management or use of the material. As required by Council on Environmental Quality (CEQ) and DLA National Environmental Policy Act (NEPA) regulations, this decision must include consideration of a range of reasonable management alternatives and the environmental and socioeconomic impacts of those alternatives. Therefore, as announced in the Notice of Intent to prepare an environmental impact statement published in the Federal Register on February 5, 2001 (66 FR 8947), DNSC is evaluating a range of reasonable alternatives in the EIS. These alternatives include no action, and are likely to include consolidated long term storage, processing, disposal, and sales alternatives. Consolidated long term storage could occur at existing storage locations or at other locations. The purpose of this Notice is to determine if there is interest on the part of other federal agencies in hosting a consolidated storage facility. Consideration of any particular consolidation site in the EIS is not a guarantee of its selection. DNSC would likely hold public outreach (e.g., an EIS scoping meeting) in cooperation with the host agency to judge reaction to the proposal and would probably request that agency to be a cooperating agency under NEPA for the EIS.

Request for Expression of Interest: DNSC requests Expressions of Interest from federal agencies on locations for storage of approximately 4,890 tons (128,762, 76-lb flasks) of mercury. This request for expression of interest published, in today's Federal Register, is the first step in the process to consider alternative sites for consolidated long term storage of the mercury. This request will help to ensure that the resulting long term management options will consider all reasonable alternatives. Because DNSC expects that each Agency's submission and site would have unique characteristics associated with its proposal, terms and conditions of use of any site would be negotiated to the mutual satisfaction of both agencies.

DNSC will evaluate each submission to determine if it should be included as a reasonable alternative in the EIS, which will assess the environmental impacts of the various alternative management strategies. DNSC estimates that approximately 100,000 to 150,000 square feet of space would be required depending on the storage configuration to store the entire mercury stockpile with sufficient space between pallets to conduct routine inspections. DNSC requires that the space be in compliance with all current building codes and construction standards, and have a fire suppression system. In addition the temperature of the storage area must not exceed 70 degrees F; temperature can be limited by natural means or climate control. Since the mercury is an industrial commodity and the storage period to begin in 2003 and, for planning purposes, continue for 40 or more years.

DNSC requires the following information for each proposed storage location:

1. A map showing the location of the storage building on the site, nearby (within 10 miles) political boundaries, communities (especially minority, low income or Native American), roads, railroads, airports, water bodies, parkland, or other environmentally sensitive areas;

2. A description of the site, including ownership, current activities, access control system, hazardous materials handling experience, mercury handling experience, current tenants, previous regulatory compliance problems, and existing environmental contamination;

3. A description of the storage building, if pre-existing, including date and type of construction including any special features which provide protection against leaks and external environmental hazards, fire suppression system, access control system, current activities and materials in storage, current tenants, and existing environmental contamination;

4. Equipment, materials, and labor required to upgrade or construct the facility to accept long term mercury storage;

5. Environmental and health and safety approvals required;

6. Estimated cost, including construction, operations, and decontamination. Include a description of the basis for the estimate, and any assumptions; and

7. Proposed schedule for providing a consolidation facility meeting the above requirements.

Expression of Interest Format: The length of the Expression of Interest should be no more than 30 pages using 12-point font. While the responder may determine how best to use the 30 pages, we recommend the following format: SECTION I—Summary; SECTION 2—Description of Location with specific reference to the items requested by DNSC above; SECTION 3—Qualifications and experience of respondents in mercury storage operations or operations of similar complexity. When describing similar work that has been performed, include the name of the organization, contract number if applicable, and name and telephone number of the organization's point of contact and contracting officer.

Proprietary Information: If the Expression of Interest contains information that is privileged or confidential and which the respondent does not want disclosed to the public or used by the Federal Government for any purpose other than this Notice, the respondent should place the following notice on the Expression of Interest. “Notice: Data contained in these pages of this Expression of Interest have been submitted in confidence and contain trade secrets or commercial or financial information that is confidential or privileged, and such data should be used or disclosed only for purposes of consideration of this Expression of Interest. This restriction does not limit the Government's right to use or disclose data obtained without restriction from any source, including the respondent.” The respondent should mark the pages that are considered “Proprietary Information”.

Submission: Agencies wishing to make an Expression of Interest should do so in writing by April 30, 2001, to ensure their consideration. Each submittal should consist of an original and three photocopies, and be mailed to Project Manager, Mercury Management EIS; DNSC-E; Defense Logistics Agency; Defense National Stockpile Center, 8725 John J. Kingman Road, Suite 4616, Fort Belvoir, VA 22060-6223. DNSC will not consider attachments or appendices. Respondents may submit questions within 20 business days of this notice being published. Questions may be submitted by e-mail to dennis_lynch@hq.dla.mil or by fax to (703) 767-5411. Responses to questions will be posted on the Mercury Management EIS web site at www.mercuryeis.com. DNSC is under no obligation to pay for any costs associated with the preparation or submission of Expressions of Interest in response to this Notice. DNSC reserves the right to respond or not respond to any portion, all, or none of the Expressions of Interest submitted in response to this Notice.

Issued in Fort Belvoir, VA., on this 21st day of February, 2001.
Richard Connelly,
Administrator, Defense National Stockpile Center.

[FR Doc. 01-5171 Filed 3-2-01; 8:45 am]

BILLING CODE 3620-01-M